DEPARTMENT OF HOUSING AND URBAN DEVELOPMENT

[Docket No. FR-5477-N-02]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Juanita Perry, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Veronica Rines, Department of the Army, Office of the Assistant Chief of Staff for Installation Management, DAIM-ZS, Room 8536, 2511 Jefferson Davis Hwy, Arlington, VA 22202; (703) 601-2545; COAST GUARD: Commandant, United States Coast Guard, Attn: Jennifer Stomber, 2100 Second St., SW., Stop 7901, Washington, DC 20593-0001; (202) 475-5609; ENERGY: Mr. Mark Price, Department of Energy, Office of Engineering & Construction Management, MA-50, 1000 Independence Ave, SW., Washington, DC 20585: (202) 586-5422; GSA: Mr. Gordon Creed, General Services Administration, Office of Property Disposal, 18th and F St., NW., Washington, DC 20405; (202) 501-0084; of Property Disposal, 18th & F Streets, NW., Washington, DC 20405; (202) 501-0084; INTERIOR: Mr. Michael Wright, Acquisition & Property Management, Department of the Interior, 1849 C Street, NW., Washington, DC 20240: (202) 208-5399; NAVY: Mr. Albert Johnson, Department of the Navy, Asset Management Division, Naval Facilities Engineering Command, Washington Navy Yard, 1330 Patterson Ave., SW., Suite 1000, Washington, DC 20374; (202) 685-9305; (These are not toll-free numbers).

Dated: January 6, 2011.
Mark R. Johnston,
Deputy Assistant Secretary for Special Needs.

Title V, Federal Surplus Property Program Federal Register Report for 01/14/2011

Suitable/Available Properties

Building

Iowa

Prairie Ridge Pak

12766 200th

Moravia IA 52571

Landholding Agency: Army

Property Number: 21201110002

Status: Underutilized

Comments: 180 sp. ft., off site removal only, most recent use: fee booth, walls are contaminated w/mold—walls need to be replaced

Mississippi

James O. Eastland

245 East Capitol St.

Jackson MS 39201-2409

Landholding Agency: GSA

Property Number: 54201040020

Status: Excess

GSA Number: 4-G-MS-0567-AA

Directions: Federal Bldg. and Courthouse

Comments: 14,000 sq. ft., current/recent use: gov't offices and courtrooms, asbestos identified behind walls, and historic bldg. preservation covenants will be included in the Deed of Conveyance

South Carolina

Naval Health Clinic

3600 Rivers Ave.

Charleston SC 29405

Landholding Agency: GSA

Property Number: 54201040013

Status: Excess

GSA Number: 4-N-SC-0606

Comments: Redetermination: 399,836 sq. ft., most recent use: office

Virginia

Tract 05-511, Qrts. 11

7941 Brock Rd.

Spotsylvania VA 22553

Landholding Agency: GSA

Property Number: 54201110001

Status: Excess

GSA Number: 4-I-VA-0756

Comments: 1642 sq. ft., off-site removal only, previously reported by Interior and published as suitable/available in the 10.22.2010 FR

Unsuitable Properties

Building

California

Bldg. 3521

Naval Base

San Diego CA

Landholding Agency: Navy

Property Number: 77201040019

Status: Excess

Reasons: Extensive deterioration, Secured Area

Maryland

24 Bldgs.

NSA S. Potomac

Indian Head MD 20640

Landholding Agency: Navy

Property Number: 77201040018

Status: Excess

Directions: 2SN, 582, 1062, 1063, 1064, 1150, 1155, 1156, 1202, 1373, 1547, 1548, 105, 166, 174, 183, 258, 259, 934, 935, 936, 937, 938, and 939

Reasons: Extensive deterioration, Within 2000 ft. of flammable or explosive material

Missouri

Harry S. Truman Reservoir

15968 Truman Rd.

Warsaw MO 65355

Landholding Agency: Army

Property Number: 21201110001

Status: Underutilized

Directions: 07015 and L43002

Reasons: Extensive deterioration

New Mexico

5 Bldgs.

Los Alamos Nat'l Lab

Los Alamos NM 87545

Landholding Agency: Energy

Property Number: 41201040004

Status: Unutilized

Directions: 18-0031, 18-0128, 18-0168, 18-0270, 53-0573

Reasons: Extensive deterioration, Secured Area

09-0272, 03-1462, 15-0456

Los Alamos Nat'l Lab

Los Alamos NM 87545

Landholding Agency: Energy

Property Number: 41201040005

Status: Unutilized

Reasons: Extensive deterioration

New York

Bldg. 00001

U.S. Army Garrison

West Point NY 10996

Landholding Agency: Army

Property Number: 21201040041

Status: Unutilized

Reasons: Secured Area, Extensive deterioration

North Carolina

Barracks 61

Coast Guard Support Unit

Elizabeth NC 27909

Landholding Agency: Coast Guard

Property Number: 88201040007

Status: Excess

Reasons: Secured Area, Within 2000 ft. of flammable or explosive material

Oklahoma

Bldg. 00654

McAlester Army Ammo Plant

Pittsburg OK 74501

Landholding Agency: Army

Property Number: 21201040040

Status: Unutilized

Reasons: Secured Area, Within 2000 ft. of flammable or explosive material

RS Kerr Lake

HC61

Sallisaw OK 74955

Landholding Agency: Army

Property Number: 21201040042

Status: Underutilized

Reasons: Extensive deterioration

Samoa

Bldg. 00644

Tree Top U.S. Army Reserve Ctr

Pago AQ

Landholding Agency: Army

Property Number: 21201040039

Status: Unutilized

Reasons: Secured Area, Extensive deterioration

Wyoming

Bureau of Reclamation

Pathfinder Dam and Reservoir

Natrona WY 82604

Landholding Agency: Interior

Property Number: 61201040005

Status: Unutilized

Reasons: Extensive deterioration

Hawaii

Potable Wastewater Collection

Barbers Point NAS

Kalaeloa HI 96862

Landholding Agency: GSA

Property Number: 54201110002

Status: Excess

GSA Number: 9-N-HI-472-23-AO

Reasons: Extensive deterioration

Potable Water Distribution

Barbers Point NAS

Kalaeloa HI 96862

Landholding Agency: GSA

Property Number: 54201110003

Status: Excess

GSA Number: 9-N-HI-472-23-AN

Reasons: Extensive deterioration

[FR Doc. 2011-394 Filed 1-13-11; 8:45 am]

BILLING CODE 4210-67-P